DEPARTMENT OF TRANSPORTATION

Federal Aviation Administration

14 CFR Part 71

Proposed Revisions of the Minneapolis Class B Airspace Area, MN; Public Meetings

AGENCY: Federal Aviation Administration (FAA), DOT.

ACTION: Notice of Public Meeting.

SUMMARY: This notice announces two fact-finding informal airspace meetings to solicit information from airspace users, and others, concerning a proposal to revise the Class B airspace at Minneapolis, MN. The purpose of these meetings is to provide interested parties the opportunity to present views, recommendations, and comments on this proposal. All comments received during the meetings will be considered prior to issuance of a notice of proposed rulemaking.

TIMES AND DATES: The informal airspace meetings will be held on Tuesday, January 9, 2001, starting at 6:30 p.m. until 10 p.m., and on Saturday, January 13, 2001, starting at 9 a.m. until 1 p.m. Comments must be received on or before March 13, 2001. Send or deliver comments on the proposal in triplicate to: Manager, Air Traffic Division, AGL-500, Federal Aviation Administration, Great Lakes Region Headquarters, O'Hare Lake Office Center, 2300 East Devon Avenue, Des Plaines, IL 60018.

ADDRESSES: On January 9, 2001, the meeting will be at St. Paul Downtown Airport, Army Aviation Support Facility, 206 Airport Road, St. Paul, MN. On January 13, 2001, the meeting will be at Hennepin Technical College, Flying Cloud Campus, 9200 Flying Cloud Drive, Eden Prairie, MN.

FOR FURTHER INFORMATION CONTACT: Arthur Hill, Air Traffic Division, AGL-520, FAA, Great Lakes Regional Office, telephone (874) 294-7261.

SUPPLEMENTARY INFORMATION:

Meeting Procedures

The following procedures will be used to facilitate the meetings:

(a) The meeting will be informal in nature and will be conducted by a representative of the FAA Great Lakes Region. Representative from the FAA will present a formal briefing on the proposed revisions of the Class B Airspace Areas. Each participant will be given the opportunity to deliver comments or make a presentation.

(b) The meeting will be open to all persons on a space available basis. There will be no admission fee or other charge to attend and participate.

(c) Any person wishing to make a presentation of the FAA panel will be asked to sign in and estimate the amount of time needed for such presentation. This will permit the panel to allocate an appropriate amount of time for each presenter.

(d) The meeting will not be adjourned until everyone on the list has had an opportunity to address the panel.

(e) Position papers or other handout material relating to the substance of the meeting will be accepted. Participants wishing to submit handout material should present three copies to the presiding officer. There should be additional copies of each handout available for other attendees.

(f) The meeting will not be formally recorded. However, a summary of the comments made at the meetings will be filed in the docket.

Agenda for the Meetings

Opening remarks and Discussion of Meeting Procedure.

Briefing on Background for proposal.

Public Presentations.

Closing Comments.

Christopher Blum,
Manager, Air Traffic Division.

[FR Doc. 00-27753 Filed 10-27-00; 8:45 am]

BILLING CODE 4910-13-M